SECURITIES AND EXCHANGE COMMISSION

Sunshine Act Meetings

Notice is hereby given, pursuant to the provisions of the Government in the Sunshine Act, Pub. L. 94-409, that the Securities and Exchange Commission will hold the following meetings during the week of February 25, 2002: An open meeting will be held on Wednesday, February 27, 2002 at 10 a.m., in Room 1C30, the William O. Douglas Room, and closed meetings will be held on Wednesday, February 27, 2002 at 11 a.m. and Thursday, February 28, 2002 at 10 a.m.

The subject matter of the open meeting scheduled for Wednesday, February 27, 2002, will be: The Commission will hear oral argument on an appeal by Sandra K. Simpson, formerly an associated person with a registered broker-dealer, from the decision of an administrative law judge. For further information, contact Roy Sheetz at (202) 942-0950.

Commissioners, Counsel to the Commissioners, the Secretary to the Commission, and recording secretaries will attend the closed meetings. Certain staff members who have an interest in the matters may also be present.

The General Counsel of the Commission, or his designee, has certified that, in his opinion, one or more of the exemptions set forth in 5 U.S.C. 552b(c)(3), (5), (7), (8), (9)(B), and (10) and 17 CFR 200.402(a)(3), (5), (7), (8), 9(ii) and (10), permit consideration of the scheduled matters at the closed meetings.

The subject matter of the closed meeting scheduled for Wednesday, February 27, 2002, will be: Post-argument discussion.

The subject matter of the closed meeting scheduled for Thursday, February 28, 2002, will be: Inspection report; institution and settlement of injunctive actions; institution and settlement of administrative proceedings of an enforcement nature; and formal orders of investigation.

At times, changes in Commission priorities require alterations in the scheduling of meeting items. For further information and to ascertain what, if any, matters have been added, deleted or postponed, please contact: The Office of the Secretary at (202) 942-7070.

Dated: February 20, 2002.
Jonathan G. Katz,
Secretary.

[FR Doc. 02-4510 Filed 2-21-02; 11:47 am]

BILLING CODE 8010-01-M